DEPARTMENT OF THE INTERIOR

Bureau of Ocean Energy Management

Notice on Outer Continental Shelf Oil and Gas Lease Sales; MMAA104000

AGENCY: Bureau of Ocean Energy Management, Interior.

ACTION: List of Restricted Joint Bidders.

Pursuant to 42 U.S.C. 6213 and the Bureau of Ocean Energy Management (BOEM) regulatory restrictions on joint bidding, 30 CFR 556.511-515, the Director of BOEM is publishing a List of Restricted Joint Bidders. Any entity appearing on this list is limited in its ability to submit a joint bid. Specifically, an entity appearing within one of the following groups is restricted from bidding with any entity listed in any of the other groups on the List of Restricted Joint Bidders at all Outer Continental Shelf oil and gas lease sales to be held during the bidding period November 1, 2019, through April 30, 2020.

This List of Restricted Joint Bidders is in effect for the period November 1, 2019, through April 30, 2020, and replaces the prior list published on June 6, 2018 (84 FR 26442), covering the period of May 1, 2019, through October 31, 2019.

Group I

BP America Production Company

BP Exploration & Production Inc.

BP Exploration (Alaska) Inc.

Group II

Chevron Corporation

Chevron U.S.A. Inc.

Chevron Midcontinent, L.P.

Unocal Corporation

Union Oil Company of California

Pure Partners, L.P.

Group III

Eni Petroleum Co. Inc.

Eni Petroleum US LLC

Eni Oil US LLC

Eni Marketing Inc.

Eni BB Petroleum Inc.

Eni US Operating Co. Inc.

Eni BB Pipeline LLC

Group IV

Equinor ASA

Equinor Gulf of Mexico LLC

Equinor USA E&P Inc.

Group V

Exxon Mobil Corporation

ExxonMobil Exploration Company

Group VI

Shell Oil Company

Shell Offshore Inc.

SWEPI LP

Shell Frontier Oil & Gas Inc.

SOI Finance Inc.

Shell Gulf of Mexico Inc.

Group VII

Total E&P USA, Inc.

In addition to the entities listed above on the List of Restricted Joint Bidders, certain joint or single bids submitted by any entity may be disqualified, and rejected, by BOEM if that entity is chargeable for the prior production period with an average daily production in excess of 1.6 million barrels of crude oil, natural gas, and natural gas liquids. See 30 CFR 556.512(b)-(d).

Authority: 42 U.S.C. 6213; and 30 CFR 556.511-556.515.

Walter D. Cruickshank,
Acting Director, Bureau of Ocean Energy Management.

[FR Doc. 2019-24052 Filed 11-4-19; 8:45 am]

BILLING CODE 4310-MR-P